DEPARTMENT OF THE INTERIOR

[FWS-R4-ES-2019-N026; FVHC98220410150-XXX-FF04H00000]

Deepwater Horizon Oil Spill Final Restoration Plan 1 and Environmental Assessment: Birds and Sturgeon, and Finding of No Significant Impact; Open Ocean Trustee Implementation Group

AGENCY: Department of the Interior.

ACTION: Notice of availability.

SUMMARY: In accordance with the Oil Pollution Act of 1990 (OPA), the National Environmental Policy Act (NEPA), the Deepwater Horizon Oil Spill Final Programmatic Damage Assessment and Restoration Plan and Final Programmatic Environmental Impact Statement (Final PDARP/PEIS), Record of Decision, and the Consent Decree, the Federal natural resource trustee agencies for the Open Ocean Trustee Implementation Group (Open Ocean TIG) have prepared a Final Restoration Plan 1 and Environmental Assessment (Final RP1/EA) and Finding of No Significant Impact (FONSI). The Final RP1/EA describes the restoration project alternatives for the Birds and Sturgeon restoration types considered by the Open Ocean TIG to continue the process of restoring natural resources and services injured or lost as a result of the Deepwater Horizon oil spill. The purpose of this notice is to inform the public of the availability of the Final RP1/EA and FONSI.

ADDRESSES: Obtaining Documents: You may download the Final RP1/EA and FONSI from either of the following websites:

• http://www.gulfspillrestoration.noaa.gov

• http://www.doi.gov/deepwaterhorizon/adminrecord

Alternatively, you may request a CD of the Final RP1/EA and FONSI (see FOR FURTHER INFORMATION CONTACT).

FOR FURTHER INFORMATION CONTACT: Nanciann Regalado, via email at nanciann_regalado@fws.gov, via telephone at 678-296-6805, or via the Federal Relay Service at 800-877-8339.

SUPPLEMENTARY INFORMATION:

Introduction

On April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The Deepwater Horizon oil spill is the largest off shore oil spill in U.S. history, discharging millions of barrels of oil over a period of 87 days. In addition, well over 1 million gallons of dispersants were applied to the waters of the spill area in an attempt to disperse the spilled oil. An undetermined amount of natural gas was also released into the environment as a result of the spill.

The Trustees conducted the natural resource damage assessment (NRDA) for the Deepwater Horizon oil spill under the Oil Pollution Act (OPA; 33 U.S.C. 2701 et seq.). Pursuant to OPA, Federal and State agencies act as trustees on behalf of the public to assess natural resource injuries and losses and to determine the actions required to compensate the public for those injuries and losses. OPA further instructs the designated trustees to develop and implement a plan for the restoration, rehabilitation, replacement, or acquisition of the equivalent of the injured natural resources under their trusteeship, including the loss of use and services from those resources from the time of injury until the time of restoration to baseline (the resource quality and conditions that would exist if the spill had not occurred) is complete.

The Deepwater Horizon Trustees are:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

The Trustees reached and finalized a settlement of their natural resource damage claims with BP in an April 4, 2016, Consent Decree approved by the U.S. District Court for the Eastern District of Louisiana. Pursuant to that Consent Decree, restoration projects in the Open Ocean Restoration Area are now selected and implemented by the Open Ocean Trustee Implementation Group (TIG). The Open Ocean TIG is composed of the following Federal Trustees:

• U.S. Department of the Interior (DOI), as represented by the National Park Service, U.S. Fish and Wildlife Service, and Bureau of Land Management;

• National Oceanic and Atmospheric Administration (NOAA), on behalf of the U.S. Department of Commerce;

• U.S. Department of Agriculture (USDA); and

• U.S. Environmental Protection Agency (EPA).

Background

On March 31, 2017, the Open Ocean TIG posted a public notice at http://www.gulfspillrestoration.noaa.gov requesting new or revised natural resource restoration project ideas by May 15, 2017, for the Open Ocean Restoration Area for the 2017-2020 planning years. The notice stated that the Open Ocean TIG was seeking project ideas for the following Restoration Types: (1) Birds, (2) Sturgeon, (3) Sea Turtles, (4) Marine Mammals, (5) Fish and Water Column Invertebrates, and (6) Mesophotic and Deep Benthic Communities.

On February 7, 2018, the Open Ocean TIG announced that it had initiated drafting of its first and second post-settlement draft restoration plans; and that the first plan would include restoration projects for Birds and Sturgeon, while the second plan would include restoration projects for Sea Turtles, Marine Mammals, Fish and Water Column Invertebrates, and Mesophotic and Deep Benthic Communities.

The project submissions received through this process, along with projects previously submitted during prior restoration planning processes, resulted in the alternatives evaluated in the Draft RP1/EA.

Notice of availability of the Draft RP1/EA was published in the Federal Register on October 9, 2018 (83 FR 50681). The Draft RP1/EA provided the Open Ocean TIG's analysis of alternatives that would meet the Trustees' goal to replenish and protect living coastal and marine resources under OPA and NEPA, and identified the alternatives that were proposed as preferred for implementation. The Open Ocean TIG provided the public with 30 days to review and comment on the Draft RP1/EA. The Open Ocean TIG also held two public webinars in October 2018 to facilitate public understanding of the document. The Open Ocean TIG considered the public comments received, which informed the Open Ocean TIG's analysis of alternatives in the Final RP1/EA. A summary of the public comments received and the Open Ocean TIG's responses to those comments are addressed in Chapter 6 of the Final RP1/EA.

Overview of the OO TIG Final RP1/EA

The Final RP1/EA is being released in accordance with OPA, NRDA regulations found in the Code of Federal Regulations (CFR) at 15 CFR part 990, NEPA, the Consent Decree, and the Final PDARP/PEIS.

In the Final RP1/EA and FONSI, the Open Ocean TIG selected the following three restoration projects from the Birds and Sturgeon restoration types:

• Restoration of Common Loons in Minnesota, USA,

• Restoration of Black Terns in North and South Dakota, and

• Characterizing Gulf Sturgeon Spawning Habitat, Habitat Use and Origins of Juvenile Sturgeon in the Pearl and Pascagoula River Systems.

The Open Ocean TIG also analyzed three additional alternatives, as well as a no action alternative. In accordance with NEPA, as part of the Final RP1/EA, the Trustees issued a FONSI. The FONSI is available in Appendix E of the Final RP1/EA.

The Open Ocean TIG determined that the restoration projects selected for funding will continue the process of restoring the natural resources injured or lost as a result of the Deepwater Horizon oil spill. The total estimated cost for the three selected restoration projects is $16,000,000. Additional restoration planning for the Open Ocean Restoration Area will continue.

Administrative Record

The documents comprising the Administrative Record for the Final RP1/EA can be viewed electronically at http://www.doi.gov/deepwaterhorizon/adminrecord.

Authority

The authority of this action is the Oil Pollution Act of 1990 (33 U.S.C. 2701 et seq.), and its implementing Natural Resource Damage Assessment regulations found at 15 CFR part 990, and the National Environmental Policy Act of 1969 (42 U.S.C. 4321 et seq.).

Mary Josie Blanchard,
Director of Gulf of Mexico Restoration, Department of the Interior.

[FR Doc. 2019-05379 Filed 3-20-19; 8:45 am]

BILLING CODE 4310-15-P